DEPARTMENT OF DEFENSE

Office of the Secretary

32 CFR Part 81

[Docket ID: DOD-2017-OS-0048]

RIN 0790-AJ97

Paternity Claims and Adoption Proceedings Involving Members and Former Members of the Armed Forces

AGENCY: Department of Defense.

ACTION: Final rule.

SUMMARY: This final rule removes DoD's regulation concerning paternity claims and adoption proceedings involving members and former members of the Armed Forces. The DoD policy that corresponds with this rule is not required by law and was rescinded. This part is not necessary, therefore, it can be removed from the CFR.

DATES: This rule is effective on April 9, 2018.

FOR FURTHER INFORMATION CONTACT: LTCOL Reggie Yager, 703-571-9301.

SUPPLEMENTARY INFORMATION: It has been determined that publication of this CFR part removal for public comment is impracticable, unnecessary, and contrary to public interest since it seeks to remove DoD policy from the CFR that has already been rescinded.

This rule is not significant under Executive Order (E.O.) 12866, “Regulatory Planning and Review,” therefore, E.O. 13771, “Reducing Regulation and Controlling Regulatory Costs” does not apply.

List of Subjects in 32 CFR Part 81

Claims, Infants and children, Military personnel.

PART 81—[REMOVED]

Accordingly, by the authority of 5 U.S.C. 301, 32 CFR part 81 is removed.

Dated: April 3, 2018.
Aaron T. Siegel,
Alternate OSD Federal Register Liaison Officer, Department of Defense.

[FR Doc. 2018-07161 Filed 4-6-18; 8:45 am]

BILLING CODE 5001-06-P